DEPARTMENT OF THE INTERIOR

Fish and Wildlife Service

[FWS-R7-ES-2009-N244; 70120-1113-0000-C3]

Endangered and Threatened Wildlife and Plants; Request for Scoping Comments and Intent To Prepare an Environmental Assessment for the Proposed Designation of a Non-Essential Experimental Population of Wood Bison in Alaska

AGENCY: Fish and Wildlife Service, Interior.

ACTION: Notice of intent.

SUMMARY: We, the Fish and Wildlife Service (Service), plan to prepare a draft environmental assessment, under the National Environmental Policy Act of 1969, as amended (NEPA), in conjunction with a potential proposed rule to establish an experimental population of wood bison (Bison bison athabascae) in Alaska, pursuant to the Endangered Species Act of 1973, as amended. We are seeking comments or suggestions concerning the scope of our environmental analysis for this action.

DATES: To ensure consideration, please send your written comments by March 29, 2010.

ADDRESSES: Send information, comments, or questions by any one of the following methods.

U.S. Mail or hand delivery: Fisheries and Ecological Services Office, U.S. Fish and Wildlife Service, 1011 East Tudor Road, Anchorage, AK 99503.

Fax: 907-786-3575.

E-mail: woodbison-ak@fws.gov.

FOR FURTHER INFORMATION CONTACT: Judy Jacobs, (907) 786-3472.

SUPPLEMENTARY INFORMATION:

Background

A subspecies of North American bison, wood bison (Bison bison athabascae) are larger than plains bison (Bison bison bison) and well adapted to northern meadow and forest habitats. Skeletal remains and historical accounts show that wood bison persisted in a large part of their original range in Alaska and Canada during the last 10,000 years (Stephenson et al. 2001; Gardner and DeGange 2003). Soper (1941) estimated that 168,000 wood bison existed in North America (Alaska and western Canada) in 1800. By the end of the 19th century, however, wood bison had declined to an estimated low of 250 animals (Soper 1941). The specific causes of this precipitous decline are not known with certainty, but unregulated hunting following the fur trade, westward expansion of European settlement, and severe winters likely played a role (Fuller 1962; Gates et al. 1992). The extirpation of wood bison in Alaska was likely due to the combined effects of hunting by humans and changes in habitat distribution during the Holocene (Stephenson et al. 2001; Gardner and DeGange 2003).

Conservation efforts in Canada have substantially improved the status of wood bison. Today, there are over 10,000 free-ranging wood bison in Canada, including over 4,000 bison in 7 free-ranging, disease-free herds; over 6,000 in 4 free-ranging herds that are not disease-free but are increasing; and over 1,000 wood bison in captive conservation and research herds. (Canadian Wildlife Service, unpublished data 2009).

We have been coordinating with the State of Alaska (State) to pursue the goal of reintroducing wood bison to Alaska. The State and other conservation interests believe that wood bison reintroduction to Alaska can play an important role in ecosystem restoration and is a significant opportunity for international cooperation in improving the status of a historically important native species. The recovery of wood bison overall, however, is not dependent on restoration in Alaska.

The Alaska Department of Fish and Game (ADF&G) has worked for over 15 years to evaluate reintroducing wood bison into portions of the species' historic range in interior Alaska. Three prospective release sites with the best potential habitat include: Yukon Flats, Minto Flats, and the lower Innoko/Yukon River area (Berger et al. 1995; Gardner 2007). Numerous public meetings have been held over the years in communities located in these areas. All of the involved local State fish and game advisory committees and Federal regional subsistence advisory councils have discussed and supported wood bison reintroduction. In 2005, the State established a citizen's advisory group, the Wood Bison Restoration Advisory Group (WBRAG), to review information on the proposal to restore wood bison, discuss the relevant issues, and provide recommendations to ADF&G. Following 4 days of public meetings, the WBRAG recommended moving forward with wood bison restoration in Alaska. ADF&G produces a project newsletter, Wood Bison News, to inform the public of current developments with this project, and also maintains a web page on wood bison restoration in Alaska: http://www.wc.adfg.state.ak.us/index.cfm?adfg=game.restoration. In 2005 and 2007, ADF&G invited written public comment on wood bison restoration in Alaska. In both review periods, public comment strongly favored proceeding with this action.

The proposed reintroduction program would use wood bison stock imported from Canada, primarily from Elk Island National Park (EINP), Alberta, where a disease-free herd of 300-400 wood bison is maintained for the primary purpose of reestablishing additional healthy, free-ranging wood bison herds in additional parts of the species' original range. In June 2008, ADF&G imported wood bison from EINP, and is presently maintaining a captive herd at the Alaska Wildlife Conservation Center (AWCC) in Portage, Alaska. These animals and their progeny are intended to be used as founding stock for reintroductions to interior Alaska. Wood bison will be held for a minimum of 2 years at the AWCC for additional disease testing while plans for their release are finalized.

The goal of the Alaska wood bison restoration project is to reestablish 1-3 free-ranging populations, each including at least 400 adults within 12-15 years of release, at one or more of the three sites with the best potential habitat, Yukon Flats, Minto Flats, and/or the lower Innoko/Yukon River area. ADF&G will work with the Service, other agencies, landowners and other stakeholders to develop management plans for each area where they plan to reestablish the species (ADF&G 2007). Some of the key management objectives include restoring an indigenous grazing animal and habitat diversity to northern ecosystems, providing benefits to Alaska's people and economy, and reestablishing wood bison populations that can be harvested on a sustained yield basis.

Regulatory Considerations

Endangered Species Act Protections

Under the U.S. Endangered Species Act (Act; 16 U.S.C. 1531 et seq.), wood bison are listed as endangered, although they presently occur in the wild only in Canada. If wood bison were to be introduced to Alaska with the endangered designation, they would be subject to the protections and prohibitions of sections 7 and 9 of the Act. Section 7 requires Federal agencies to ensure that any action they authorize, fund, or carry out is not likely to jeopardize the continued existence of a listed species or result in the destruction or adverse modification of designated critical habitat. Section 9 prohibits the take of endangered and threatened wildlife. “Take” is defined as: to harass, harm, pursue, hunt, shoot, wound, trap, capture, or collect, or to attempt to engage in any such conduct.

Experimental Populations

In 1982, Congress amended the Act by adding section 10(j), to provide for designation of “experimental populations.” Prior to 1982, local citizens often opposed reintroductions of listed species into unoccupied portions of their historical range because they were concerned about potential restrictions to Federal, State, and private activities. Under section 10(j), and our regulations at 50 CFR 17.81, the Service can designate reintroduced populations established outside the species' current range, but within its historical range, as “experimental.” Our regulations at 50 CFR 17.80(b) state that a reintroduced population can be considered a “nonessential experimental population” (NEP) if the loss of that population would not appreciably reduce the likelihood of survival of the species in the wild. Regulatory requirements of sections 7 and 9 of the Act are considerably reduced under a NEP designation. The Act further prohibits designating critical habitat for any NEP, and through section 4(d) of the Act, the Service may develop regulations and management options specific to the species' needs that are necessary to promote the species' conservation. In order to establish a NEP, we must first issue a proposed regulation pursuant to section 10(j) of the Act and consider public comments prior to publishing a final regulation. Our regulations at 50 CFR 17.81 (d) require that, to the extent practicable, a regulation issued under section 10(j) of the Act represents an agreement between the Service, the affected State and Federal agencies, and persons holding any interest in land that may be affected by the establishment of the NEP.

Wood Bison Status in Canada and ESA Petition

In 1988, the Committee on the Status of Endangered Wildlife in Canada reclassified the wood bison from “endangered” to “threatened” status under Canada's Species at Risk Act because Canadian populations of wood bison were recovering. In 2007, Canada's Wood Bison Recovery Team petitioned the Service to reclassify wood bison from endangered to threatened status under the Act. On February 3, 2009, we published a finding that the petition presented substantial information indicating that this action may be warranted and initiated a status review for wood bison (74 FR 5908). Following our review of the wood bison's status, we will issue a finding on the petition, in which we will determine whether it is appropriate to retain the species' endangered status, reclassify it as threatened, or even to remove the wood bison from listed status under the Act.

Regulatory Status of Wood Bison in Alaska

The State will not consider reintroducing wood bison to Alaska in the absence of Federal regulatory assurance to landowners and land managers that such action would not adversely affect resource development activities important to Alaska's economy. Such assurance could be accomplished through a change in the species' listing status throughout its range or through the establishment of a NEP pursuant to section 10(j) of the Act. A reclassification of the wood bison to “threatened” status, without the establishment of a NEP pursuant to ESA section 10(j), would not provide sufficient regulatory assurance.

Scoping Process

To ensure compliance with NEPA and the Act, the Service and ADF&G are cooperating to prepare a draft environmental assessment (EA) and proposed rule to establish, under section 10(j) of the Act, a non-essential experimental population of wood bison in Alaska. The purpose of this scoping process is to aid the development of the EA by collecting comments on this action as a way to support wood bison conservation. We also seek comments on the environmental effects of reintroducing wood bison to Alaska.

In addition to the “no action” alternative, our draft EA will consider:

(1) The environmental effects of issuing 10(j) and 4(d) rules for wood bison in Alaska;

(2) the environmental effects of reintroducing wood bison to one or more of the potential release sites Minto Flats, Yukon Flats, and the lower Innoko/Yukon River area;

(3) the environmental effects of reintroducing wood bison to Alaska in the absence of 10(j) and 4(d) rules.

We will incorporate the relevant public comments we receive in response to this scoping notice into our analysis of impacts of the proposed action and project alternatives in the draft EA. This document will include maps of the proposed reintroduction area or areas, based on public input and current knowledge of wood bison habitat in Alaska. We will make the draft EA available for a minimum 30-day public review period. The final environmental document, which will address the comments we receive during the draft EA public comment period, will be available on the internet.

Request for Public Comments

We wish to ensure that any 10(j) rule and associated environmental documents we issue relating to the wood bison in Alaska effectively evaluate all potential issues associated with wood bison reintroduction to Alaska. Therefore, we request comments or recommendations concerning any of the considerations we have listed above; and also concerning: The biological and habitat requirements of the species; information on the distribution and quality of habitat for the wood bison in Alaska; the overall approach to the conservation of wood bison in Canada and Alaska; reasons why any specific areas might require special management or should be excluded from, or added to, the proposed reintroduction site or sites; and any other pertinent issues of concern. We seek comments from the public; Tribal, local, State, and Federal government agencies; the scientific community; industry; or any other affected or interested party. To determine whether to prepare a Finding of No Significant Impact or an Environmental Impact Statement, we will take into consideration all comments and any additional information we receive.

References

A complete list of all references in this notice is available upon request from the Fish and Wildlife Service (see ADDRESSES).

Author(s)

The primary author of this package is the Fisheries and Ecological Services Office, U.S. Fish and Wildlife Service, Anchorage, AK.

Dated: February 12, 2010.
Gary Edwards,
Deputy Regional Director, Region 7, U.S. Fish and Wildlife Service.

[FR Doc. 2010-3889 Filed 2-24-10; 8:45 am]

BILLING CODE 4310-55-P